DEPARTMENT OF AGRICULTURE

Forest Service

North End Sheep Allotment Range Analysis, Caribou-Targhee National Forest, Caribou and Bonneville Counties, ID

AGENCY: Forest Service, USDA.

ACTION: Notice of intent to prepare an Environmental Impact Statement.

SUMMARY: The Soda Springs Ranger District, Caribou-Targhee National Forest, will be preparing an Environmental Impact Statement (EIS) to analyze the effects to grazing on several sheep allotments. Allotment Management Plans for the following sheep allotments; Bald Mountain, Barnes Creek, Black Canyon, Bridge Creek, Comb Creek, Deep Creek, Eagle Creek-Morgan Meadow, Hell Creek, Keenan City, Little Elk Mountain, Miners Delight, Pole Creek, Spring Creek, Squaw Creek, Taylor Creek, West Jensen and Wolverine-Kirk will be updated based on the analysis. All of these allotments are located on the North end of the Caribou Range in Townships 2-5 South, Ranges 43-46 East, Boise Meridian, within Caribou and Bonneville Counties. An EIS will be prepared to display the effects of sheep grazing on these allotments. Public comments will be used to develop issues and alternative management systems. The purpose for this project is to assess current conditions on the allotments and ensure that riparian and upland vegetation are meeting Forest Plan objectives and other applicable laws and regulations. The EIS will outline standards and guidelines for livestock management, which will be used to revise Allotment Management Plans for each allotment. The EIS and subsequent revision of the Allotment Management Plans will bring these allotments into compliance with Public Law 104, the Caribou National Forest Land and Resource Management Plan, and other applicable laws and regulations. The decision to be made by the District Ranger is what changes need to be made for future livestock management within the boundaries of these allotments.

DATES: Written comments concerning the analysis should be received within 30 days of the date of publication of this notice in the Federal Register.

ADDRESSES: Send written comments to Soda Springs Ranger District, Attn: David Whittekiend, 421 West 2nd South, Soda Springs, Idaho 83276. The responsible official for this decision is David Whittekiend, District Ranger.

FOR FURTHER INFORMATION CONTACT: Questions concerning the proposed action and EIS should be directed to Derek Hinckley, Range Management Specialist, at (208) 547-4356.

SUPPLEMENTARY INFORMATION: The EIS and subsequent revision of the Allotment Management Plans will bring these allotments into compliance with Public Law 104, the Caribou National Forest Land and Resource Management Plan, and other applicable laws and regulations.

Initial scoping and issue development identified the following tentative issues: riparian/fisheries, wildlife, vegetation and watershed/soils.

The Forest Service has previously scoped this project in February of 2001. If you have already commented, your comments are part of the record and will be considered in determining issues, and alternatives. The Forest Service invites written comments and suggestions on the issues related to the proposal and the area being analyzed. Information received will be used in preparation of the Draft EIS and Final EIS. For most effective use, comments should be submitted to the Forest Service within 30 days from the date of publication of this Notice in the Federal Register.

Agency representatives and other interested people are invited to visit with Forest Service officials at any time during the EIS process. Two specific time periods are identified for the receipt of formal comments on the analysis. The two comment periods are, (1) during the scoping process, the next 30 days following publication of this Notice in the Federal Register, and (2) during the formal review period of the Draft EIS.

The Draft EIS is estimated to be filed with the Environmental Protection Agency (EPA) and available for public review in August of 2002. At that time, the EPA will publish an availability notice of the Draft EIS in the Federal Register.

The Forest Service estimates the Draft EIS will be filed within 10 months of this Notice of Intent, approximately August of 2002. The Final EIS will be filed within 6 months of that date, approximately December of 2002.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and intentions.

Vermont Yankee Nuclear Power Corp. v. NRDC, 435 U.S. 519, 553 (1978). Also, environmental objections that could be raised at the draft environmental impact statement stage but that are not raised until after completion of the final environmental impact statement may be waived or dismissed by the courts. Court of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. (Reviewers may wish to refer to the Council on Environmental Quality Regulations for implementing the procedural provisions of the National Environmental Policy Act at 40 CFR 1503.3 in addressing these points.)

Comments received in response to this solicitation, including names and addresses of those who comment, will be considered part of the public record on this proposed action and will be available for public inspection. Comments submitted anonymously will be accepted and considered: however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that under the FOIA, confidentiality may be granted in only very limited circumstances such as to protect trade secrets. The Forest Service will inform the requester of the agency's decision regarding the request for confidentiality, and where the request is denied, the agency will return the submission and notify the requester that the comments may be resubmitted with or without name and address within 10 days.

Dated: November 26, 2001.
David C. Whittekiend,
Soda Springs Ranger District.

[FR Doc. 01-29836 Filed 11-30-01; 8:45 am]

BILLING CODE 3410-11-M